SMALL BUSINESS ADMINISTRATION

Data Collection Available for Public Comments

ACTION: 60-Day notice and request for comments.

SUMMARY: The Small Business Administration (SBA) intends to request approval, from the Office of Management and Budget (OMB) for a revision to the collection of information in Form 1086 described below. The Paperwork Reduction Act (PRA) requires federal agencies to publish a notice in the Federal Register concerning each proposed collection of information before submission to OMB, and to allow 60 days for public comment in response to the notice. This notice complies with that requirement.

DATES: Submit comments on or before February 18, 2025.

ADDRESSES: Send all comments to Marybeth Kerrigan, Financial Analyst, Secondary Markets Division, Office of Financial Assistance, Small Business Administration, Washington, DC 20416.

FOR FURTHER INFORMATION CONTACT: Marybeth Kerrigan, Financial Analyst, Secondary Markets Division, Office of Financial Assistance, mary.kerrigan@sba.gov 202-205-7552, or Curtis B. Rich, Agency Clearance Officer, 202-205-7030, curtis.rich@sba.gov. A copy of the revised Form 1086 may be obtained without charge by request to mary.kerrigan@sba.gov.

SUPPLEMENTARY INFORMATION: SBA collects this information from lenders who participate in the secondary market program. The information is used to facilitate and administer secondary market transactions in accordance with 15 U.S.C. 634(f)(3) and to monitor the program for compliance with 15 U.S.C. 639(h).

Solicitation of Public Comments

SBA is seeking to amend Article II for clarity. SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0185.

Title: Secondary Participation Guaranty Agreement.

Description of Respondents: Small Business Lenders.

Form Number: SBA Forms 1502, 1086.

Total Estimated Annual Responses: 4,000.

Total Estimated Annual Hour Burden: 62,000.

Curtis Rich,
Agency Clearance Officer.

[FR Doc. 2024-30239 Filed 12-18-24; 8:45 am]

BILLING CODE 8026-09-P